DEPARTMENT OF COMMERCE

Foreign-Trade Zones Board

[Docket 36-2002]

Foreign-Trade Zone 84—Houston, Texas; Application for Expansion

An application has been submitted to the Foreign-Trade Zones (FTZ) Board (the Board) by the Port of Houston Authority, grantee of FTZ 84, requesting authority to expand its zone in Houston, Texas, within the Houston-Galveston Customs port of entry. The application was submitted pursuant to the provisions of the Foreign-Trade Zones Act, as amended (19 U.S.C. 81a-81u), and the regulations of the Board (15 CFR part 400). It was formally filed on September 12, 2002.

FTZ 84 was approved on July 15, 1983 (Board Order 214, 48 FR 34792, 8/1/83), and the zone project currently consists of fourteen sites (1,498.92) at port facilities, industrial parks and warehouse facilities in Harris County.

The applicant is now requesting authority to expand the general-purpose zone to include the 72-acre Katoen Natie Gulf Coast (KTN) site in Harris County on a permanent basis (it currently has temporary authority) and to restore FTZ status to a 97-acre site at the Bulk Materials Handling Plant on the Houston Ship Channel, which was previously a designated zone site, but was deleted from the zone in a temporary modification last year. The KTN site would provide third party warehousing and logistics services to existing subzones and other exporting companies in the area. The KTN site is owned by Houston Polymers Terminal L.P., and would be designated as Site 15. The Bulk Materials Handling Plant site would be designated as Site 2 (which was its original zone designation). No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099—14th Street, NW., Washington, DC 20005; or

2. Submissions via the U.S. Postal Service: Foreign-Trade Zones Board, U.S. Department of Commerce, FCB-Suite 4100W, 1401 Constitution Avenue, NW., Washington, DC 20230.

The closing period for their receipt is November 19, 2002. Rebuttal comments in response to material submitted during the foregoing period may be submitted during the subsequent 15-day period (to December 4, 2002).

A copy of the application and accompanying exhibits will be available during this time for public inspection at address Number 1 listed above, and at the U.S. Department of Commerce, Export Assistance Center, 500 Dallas, Suite 1160, Houston, TX 77002. The Export Assistance Center may be relocated later this year, and we suggest that you call ahead for an appointment (713/718-3062).

Dated: September 13, 2002.
Dennis Puccinelli,
Executive Secretary.

[FR Doc. 02-24008 Filed 9-19-02; 8:45 am]

BILLING CODE 3510-DS-P